NUCLEAR REGULATORY COMMISSION

[Docket No. 50-219-LR]

In the Matter of Amergen Energy Company, LLC (License Renewal for Oyster Creek Nuclear Generating Station)

Commissioners: Dale E. Klein, Chairman, Gregory B. Jaczko, Peter B. Lyons.

Notice of Appointment of Adjudicatory Employee

Pursuant to 10 CFR 2.4, notice is hereby given that Dr. Mahendra Shah, Commission employee of the Office of Nuclear Material Safety and Safeguards, Division of High Level Waste Repository Safety, has been appointed as a Commission adjudicatory employee within the meaning of Section 2.4, to advise the Commission regarding issues related to the pending Commission review of LBP-07-17. Dr. Shah has not previously performed any investigative or litigating function in connection with this or any related proceeding. Until such time as a final decision is issued in this matter, interested persons outside the agency and agency employees performing investigative or litigating functions in this proceeding are required to observe the restrictions of 10 CFR 2.347 and 2.348 in their communications with Dr. Shah. It is so ordered.

Dated at Rockville, Maryland, this 20th day of February 2008.
For the Commission.
Annette L. Vietti-Cook,
Secretary of the Commission.

[FR Doc. E8-3593 Filed 2-25-08; 8:45 am]

BILLING CODE 7590-01-P